DEPARTMENT OF COMMERCE

National Oceanic and Atmospheric Administration

New England Fishery Management Council; Public Meeting

AGENCY: National Marine Fisheries Service (NMFS), National Oceanic and Atmospheric Administration (NOAA), Commerce

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Tuesday, March 22, 2016 at 9 a.m.

ADDRESSES: The meeting will be held at the Crowne Plaza Providence Warwick (Airport), 801 Greenwich Avenue, Warwick, RI 02886; phone: (401) 732-6000; fax: (401) 732-0261.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee plans to review habitat-related sections of five-year Council research priorities and forward recommendations to the Scientific and Statistical Committee. They will also receive update on framework adjustment to develop clam dredge access areas in Council-proposed Omnibus Habitat Amendment management areas. The committee will continue development of Omnibus Deep-Sea Coral Amendment; discuss goals and objectives of action, review list of coral zones and Plan Development Team (PDT) recommended updates and recommend modified alternatives to Council as appropriate; discuss range of management measures for coral zones and recommend modified alternatives to Council as appropriate; review preliminary PDT summary of fishing activities within coral zones; Discuss timeline for action and work plan. The Committee may also receive an update on the Northeast Regional Ocean Plan. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 1, 2016.
Tracey L. Thompson,
Acting Deputy Director, Office of Sustainable Fisheries, National Marine Fisheries Service.

[FR Doc. 2016-04859 Filed 3-3-16; 8:45 am]

BILLING CODE 3510-22-P